DEPARTMENT OF DEFENSE

Department of the Navy

Public Hearing for the Draft Environmental Impact Statement for Stabilization of In-Water Facilities at Fox Island Laboratory, Fox Island, Washington

AGENCY: Department of the Navy, DoD.

ACTION: Notice.

SUMMARY: Pursuant to section 102(2) of the National Environmental Policy Act of 1969 and the regulations implemented by the Council on Environmental Quality (40 CFR parts 1500-1508), the Department of the Navy (Navy) has prepared and filed with the U.S. Environmental Protection Agency (EPA) a Draft Environmental Impact Statement (DEIS) for the stabilization of in-water facilities at Fox Island Laboratory (FIL) on Carr Inlet in southern Puget Sound, Washington. The Navy will conduct a public hearing to receive oral and written comments on the DEIS. Federal, state, and local agencies and interested individuals are invited to be present or represented at the public hearing. Navy representatives will be available to clarify information related to the DEIS.

DATES: The public hearing will be held on Wednesday, January 21, 2004, from 6:30 p.m. to 9 p.m.

ADDRESSES: The public hearing will be held at the Nichols Community Center, 690 9th Ave, Fox Island, Washington.

FOR FURTHER INFORMATION CONTACT: Mrs. Kimberly Kler, Environmental Planner, Engineering Field Activity, Northwest, Naval Facilities Engineering Command, Poulsbo, WA. Telephone: (360) 396-0927, facsimile (360) 396-0856, or E-Mail: EFPB-EISFox @navy.mil.

SUPPLEMENTARY INFORMATION: A Notice of Intent to prepare this DEIS was published in the Federal Register, 67 FR 14921, March 28, 2002. The public scoping meeting was held on April 17, 2002, at the Nichols Community Center, Fox Island, WA. The scoping meeting was advertised in the Tacoma News Tribune on April 7, 11, and 15, 2002, and in the Peninsula Gateway on April 10 and 17, 2002.

The proposed action is to stabilize the in-water facilities at Fox Island Laboratory on Carr Inlet in southern Puget Sound. In-water elements of the facility, consisting of several barges, a pier, and associated mooring components, have sustained substantial weather-related damage, and portions of the facility have reached a point of questionable structural integrity. The DEIS analyzes four alternatives, including the No Action Alternative. The Preferred Alternative is installation of a 240-foot pontoon barge and replacement of the existing mooring system. The Preferred Alternative is not expected to result in any significant short or long-term impacts on physical, biological, socio-economic resources, or on beach processes and erosive action occurring to the northwest of FIL.

The DEIS has been distributed to various Federal, state, and local agencies, elected officials, Native American Indian Tribes, and interested parties, and is available for public review at the Peninsula Branch Pierce County Library, 4424 Pt. Fosdick Drive NW, Gig Harbor, WA. The DEIS and other information may be viewed at the following Internet address: http://www.dt.navy.mil/div/news/ foxislandeis.html.

Oral statements presented at the public hearing will be heard and transcribed by a stenographer; however, to ensure the accuracy of the record, all statements should be submitted in writing. All statements, both oral and written, will become part of the public record on the DEIS and will be responded to in the Final Environmental Impact Statement (FEIS). Equal weight will be given to both oral and written statements.

Written comments and statements can be submitted at the public hearing or mailed to: Commander, Engineering Field Activity, Northwest, Naval Facilities Engineering Command, Attn: Mrs. Kimberly Kler, Code 053C3.KK, 19917 7th Ave NE., Poulsbo, WA, 98370. All written comments postmarked by February 2, 2004, will become part of the official public record and will be responded to in the FEIS.

Dated: December 23, 2003.
S.K. Melancon,
Paralegal Specialist, Office of the Judge Advocate General, Alternate Federal Register Liaison Officer.

[FR Doc. 03-32105 Filed 12-30-03; 8:45 am]

BILLING CODE 3810-FF-P